DEPARTMENT OF DEFENSE

Office of the Secretary

[Transmittal No. 25-20]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-20 and Policy Justification.

Dated: January 8, 2026.
Stephanie J. Bost,
Alternate OSD Federal Register Liaison Officer, Department of Defense.

BILLING CODE 6001-FR-P

BILLING CODE 6001-FR-C

Transmittal No. 25-20

Notice of Proposed Issuance of Letter of Offer Pursuant to Section 36(b)(1) of the Arms Export Control Act, as amended

(i) Prospective Purchaser: Government of the Philippines

(ii) Total Estimated Value:

Major Defense Equipment * | $ 0
Other | $120 million
TOTAL | $120 million

Funding Source: Foreign Military Financing

(iii) Description and Quantity or Quantities of Articles or Services under Consideration for Purchase:

Major Defense Equipment (MDE):

None

Non-Major Defense Equipment:

TH-73A training helicopters; aircraft simulator; spare engines; pack up kits; fuel tanks; aircraft hoists and lifts; commercial avionics; commercial flight management systems; commercial Global Positioning Systems; shipping containers; support and test equipment; consumables and accessories; integration and test support; repair and return support; spare and repair parts; unclassified software delivery and support; unclassified publications and technical documentation; personnel training and commercial training equipment; United States (U.S.) Government and contractor engineering, technical, logistics, and transportation support services, including in-country representative support; studies and surveys; and other related elements of logistics and program support.

(iv) Military Department: Navy (PI-P-SDJ)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: April 15, 2025

* as defined in Section 47(6) of the Arms Export Control Act.

POLICY JUSTIFICATION

Philippines—TH-73A Training Helicopters and Support

The Government of the Philippines has requested to buy the following defense articles and services: TH-73A training helicopters; aircraft simulator; spare engines; pack up kits; fuel tanks; aircraft hoists and lifts; commercial avionics; commercial flight management systems; commercial Global Positioning Systems; shipping containers; support and test equipment; consumables and accessories; integration and test support; repair and return support; spare and repair parts; unclassified software delivery and support; unclassified publications and technical documentation; personnel training and commercial training equipment; U.S. Government and contractor engineering, technical, logistics, and transportation support services, including in-country representative support; studies and surveys; and other related elements of logistics and program support. The estimated total cost is $120 million.

This proposed sale will support the foreign policy and national security of the U.S. by helping to improve the security of a strategic partner that continues to be an important force for political stability, peace, and economic progress in Southeast Asia.

The proposed sale will improve the Philippines' capability to meet current and future threats by providing an aircraft platform that will serve as the primary method of improving pilot training and skills, thus helping to ensure the development of a proficient rotary wing aviator corps. The Philippines will have no difficulty absorbing these articles and services into its armed forces.

The proposed sale of this equipment and support will not alter the basic military balance in the region.

The principal contractor will be AgustaWestland Philadelphia Corporation (Leonardo), located in Philadelphia, PA. At this time, the U.S. Government is not aware of any offset agreement proposed in connection with this potential sale. Any offset agreement will be defined in negotiations between the purchaser and the contractor.

Implementation of this proposed sale will require the assignment of up to four additional U.S. Government and up to four U.S. contractor representatives to the Philippines for a duration of up to three years to support helicopter introduction, familiarization, fielding, and training.

There will be no adverse impact on U.S. defense readiness as a result of this proposed sale.

[FR Doc. 2026-00323 Filed 1-9-26; 8:45 am]

BILLING CODE 6001-FR-P